AGENCY FOR INTERNATIONAL DEVELOPMENT

Board for International Food and Agricultural Development, One Hundred and Fortieth Meeting; Notice of Meeting

Pursuant to the Federal Advisory Committee Act, notice is hereby given of the one hundred and forty-first meeting of the Board for International Food and Agricultural Development (BIFAD). The meeting will be held from 8 a.m. to 1 p.m. on May 27, 2004 in the ground floor meeting room of the National Association of State Universities & Land Grant Colleges (NASULGC), at 1307 New York Avenue, NW., Washington, DC.

The BIFAD will hear a status report regarding priority recommendations from the Sherper Report on USAID-university relationships, the progress of programs to emphasize long-term training, RFAs for Collaborative Research Support Programs (CRSPs) using the Leader with Associate mechanism, and other items of current interest.

The meeting is free and open to the public. Those wishing to attend the meeting or obtain additional information about BIFAD should contact John Swanson, the Designated Federal Officer for BIFAD. Write him in care of the U.S. Agency for International Development, Ronald Reagan Building, Office of Agriculture and Food Security, 1300 Pennsylvania Avenue, NW., Room 2.11-06, Washington DC, 20523-2110 or telephone him at (202) 712-5602 or fax (202) 216-3010.

John Swanson,
USAID Designated Federal Officer for BIFAD, Office of Agriculture and Food Security, Bureau for Economic Growth, Agriculture & Trade.

[FR Doc. 04-9938 Filed 4-30-04; 8:45 am]

BILLING CODE 6116-01-P